COMMISSION ON CIVIL RIGHTS

Agenda and Notice of Public Meeting of the Vermont Advisory Committee

Notice is hereby given, pursuant to the provisions of the rules and regulations of the U.S. Commission on Civil Rights, that a planning meeting of the Vermont Advisory Committee to the Commission will convene at 9:30 a.m. to 2 p.m. on Thursday, October 30, 2003, at the Vermont State House, 115 State Street, Montpelier, Vermont 05633. The Committee will hold a planning meeting from 9:30 a.m. to 10 a.m. to prepare for a press conference scheduled for 10 a.m. to 12 p.m. to releases its report, Racial Harassment in Vermont Public Schools: A Progress Report, in Room 11. Following the press conference release, the Committee will hold a second planning meeting form 12 p.m. to 2 p.m. at 159 State Street, to hear from community activists about emerging civil rights issues and plan future activities.

Persons desiring additional information, or planning a presentation to the Committee, should contact Marc Pentino of the Eastern Regional Office, (202) 376-7533, TDD (202) 376-8116. Hearing impaired persons who will attend the meeting and require the services of a sign language interpreter should contact the Regional Office at least ten (10) working days before the scheduled date of the meeting.

The meeting will be conducted pursuant to the provisions of the rules and regulations of the Commission.

Dated: at Washington, DC, October 17, 2003.
Ivy L. Davis, Chief,
Regional Programs Coordination Unit.

[FR Doc. 03-27007 Filed 10-22-03; 8:45 am]

BILLING CODE 6335-01-M